DEPARTMENT OF DEFENSE

GENERAL SERVICES AGENCY

NATIONAL AERONAUTICS AND SPACE ADMINISTRATION

48 CFR Part 51

Use of Government Sources by Contractors

CFR Correction

In title 48 of the Code of Federal Regulations, part 51, revised as of October 1, 2007, on page 956, in § 51.107, the last sentence is removed.

[FR Doc. E8-22596 Filed 9-24-08; 8:45 am]

BILLING CODE 1505-01-D